DEPARTMENT OF TRANSPORTATION

Federal Aviation Administration

14 CFR Part 39

[Docket No. 2001-NM-206-AD; Amendment 39-12544; AD 2001-24-27]

RIN 2120-AA64

Airworthiness Directives; McDonnell Douglas Model DC-9-10, -20, -30, -40, and -50 Series Airplanes; Model DC-9-81, -82, -83, and -87 Series Airplanes; Model MD-88 Airplanes; and C-9 Airplanes

AGENCY: Federal Aviation Administration, DOT.

ACTION: Final rule.

SUMMARY: This amendment supersedes an existing airworthiness directive (AD), applicable to certain McDonnell Douglas Model DC-9-10, -20, -30, -40, and -50 series airplanes; Model DC-9-81, -82, -83, and -87 series airplanes; Model MD-88 airplanes; and C-9 airplanes, that currently requires repetitive inspections to detect cracking of the rudder pedal adjuster hub assembly, and replacement of the assembly, if necessary. That AD also provides for an optional terminating action for the repetitive inspections. This amendment requires accomplishment of a new terminating action for the repetitive inspections. This amendment is prompted by that FAA's determination that further rulemaking is necessary. The actions specified by this AD are intended to prevent loss of rudder pedal control and reduction of braking capability.

DATES: Effective January 16, 2002.

The incorporation by reference of McDonnell Douglas Service Bulletin DC9-27-325R02, Revision 02, dated December 12, 1995, as listed in the regulations, is approved by the Director of the Federal Register as of January 16, 2002.

The incorporation by reference of certain other publications, as listed in the regulations, was approved previously by the Director of the Federal Register as of January 22, 1993 (57 FR 60116, December 18, 1992), and as of March 25, 1996 (61 FR 6922, February 23, 1996).

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Wahib Mina, Aerospace Engineer, Airframe Branch, ANM-120L, FAA, Los Angeles Aircraft Certification Office, 3960 Paramount Boulevard, Lakewood, California 90712; telephone (562) 627-5324; fax (562) 627-5210.

SUPPLEMENTARY INFORMATION: A proposal to amend part 39 of the Federal Aviation Regulations (14 CFR part 39) by superseding AD 96-02-05, amendment 39-9493 (61 FR 6922, February 23, 1996), which is applicable to certain McDonnell Douglas Model DC-9-10, -20, -30, -40, and -50 series airplanes; Model DC-9-81, -82, -83, and -87 series airplanes; Model MD-88 airplanes; and C-9 airplanes, was published in the Federal Register on July 23, 2001 (66 FR 38200). The action proposed to continue to require repetitive inspections to detect cracking of the rudder pedal adjuster hub assembly, and replacement of the assembly, if necessary. The action also proposed to require accomplishment of a new terminating action for the repetitive inspections.

Comments

Interested persons have been afforded an opportunity to participate in the making of this amendment. Due consideration has been given to the comments received.

Requests To Withdraw the NPRM

Two commenters request that the FAA withdraw the NPRM, since the inspections required by existing AD 96-02-05 provide an appropriate degree of safety assurance. One commenter states that there have been no loss of rudder pedal control incidents reported since the start of the inspections required by AD 96-02-05. The commenter further states that the loss of rudder pedal control by a flightcrew member is a temporary unsafe condition, since the other flightcrew member can immediately control the airplane with his/her rudder pedals. The commenter also states that of the 304 inspections it has performed on DC-9 rudder pedal adjuster hub assemblies since June 1992, only 2 inspections have resulted in finding cracks. The commenter points out that a review of the FAA Service Difficulty Reports database reveals that no DC-9 rudder pedal control has been lost during flight or taxi because of a cracked rudder pedal adjuster hub assembly.

One commenter provides the following two suggestions in lieu of withdrawing the NPRM:

1. Remove the compliance time of “Prior to the accumulation of 15,000 total landings, or within 3,500 landings after the effective date of this AD” in paragraph (c) of the Notice of Proposed Rulemaking (NPRM), so that the replacement and reidentification requirements are optional; or

2. Revise the compliance time specified in paragraph (c) of the NPRM from 18 months to 3,500 landings.

The other commenter also requests that, if further regulatory action is still deemed necessary, the NPRM specify “more” frequent inspections rather than mandate a component replacement. The commenter did not suggest what interval would suffice for “more” frequent inspections.

The FAA does not agree with the commenters to withdraw the NPRM, remove the mandatory replacement requirement, or require “more” frequent inspections. As specified in the “Background” section of the NPRM, the FAA has determined that, based on the results of investigations described in the NPRM and recommendations of the Aging Transport Systems Rulemaking Advisory Committee (ATSRAC), corrective action is necessary to minimize the potential hazards associated with wire and mechanical flight control systems degradation and related causal factors (e.g., inadequate maintenance, contamination, improper repair, and mechanical damage).

In addition, the FAA has determined that long-term continued operational safety will be better assured by modifications or design changes to remove the source of the problem, rather than by repetitive inspections. Long-term inspections may not be providing the degree of safety assurance necessary for the transport airplane fleet. This, coupled with a better understanding of the human factors associated with numerous repetitive inspections, has led the FAA to consider placing less emphasis on special procedures and more emphasis on design improvements. The replacement and reidentification required by paragraph (c) of this AD are consistent with these considerations.

Request To Revise the Heading for Paragraph (a) of the NPRM

One commenter notes that the heading of paragraph (a) of the NPRM contains a typographical error. The NPRM reads, “RESTATEMENT OF REQUIREMENTS OF AD 97-02-05,” but the correct AD number is AD 96-02-05. The FAA agrees and has revised the final rule to reflect this correction.

Conclusion

After careful review of the available data, including the comments noted above, the FAA has determined that air safety and the public interest require the adoption of the rule with the change previously described. The FAA has determined that this change will neither increase the economic burden on any operator nor increase the scope of the AD.

Cost Impact

There are approximately 1,845 Model DC-9-10, -20, -30, -40, and -50 series airplanes; Model DC-9-81, -82, -83, and -87 series airplanes; Model MD-88 airplanes; and C-9 airplanes of the affected design in the worldwide fleet. The FAA estimates that 1,086 airplanes of U.S. registry will be affected by this AD.

The inspection that is currently required by AD 96-02-05 takes approximately 3 work hours per airplane to accomplish, at an average labor rate of $60 per work hour. Based on these figures, the cost impact of the currently required actions on U.S. operators is estimated to be $195,480, or $180 per airplane, per inspection cycle.

The new actions that are required by this new AD will take approximately 9 work hours per airplane to accomplish, at an average labor rate of $60 per work hour. Required parts will cost approximately $4,314 per airplane. Based on these figures, the cost impact of the new requirements of this AD on U.S. operators is estimated to be $5,271,444, or $4,854 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9493 (61 FR 6922, February 23, 1992), and by adding a new airworthiness directive (AD), amendment 39-12544, to read as follows:

2001-24-27 McDonnell Douglas: Amendment 39-12544. Docket 2001-NM-206-AD. Supersedes AD 96-02-05, Amendment 39-9493.

Applicability: Model DC-9-10, -20, -30, -40, and -50 series airplanes; Model DC-9-81, -82, -83, and -87 series airplanes; Model MD-88 airplanes; and C-9 series airplanes; as listed in McDonnell Douglas Service Bulletin DC9-27-325R02, Revision 02, dated December 12, 1995; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent loss of rudder pedals control and reduction of braking capability, accomplish the following:

Restatement of Requirements of AD 96-02-05

Repetitive Inspections and Replacement, If Necessary

(a) For airplanes listed in McDonnell Douglas DC-9 Alert Service Bulletin A27-325R02, Revision 1, dated February 3, 1992: Prior to the accumulation of 15,000 landings or within 270 days after January 22, 1993 (the effective date of AD 92-27-07, amendment 39-8441), whichever occurs later, conduct a visual and eddy current inspection to detect cracks of the rudder pedals adjuster hub assembly, part number 4616066, in accordance with McDonnell Douglas DC-9 Alert Service Bulletin A27-325R02, Revision 1, dated February 3, 1992, or Revision 2, dated January 27, 1995.

(1) If no cracks are detected as a result of the inspections required by this paragraph, repeat the inspections at intervals not to exceed 3,500 landings.

(2) If cracks are detected as a result of the inspections required by this paragraph, prior to further flight, replace the rudder pedal adjuster hub assembly, part number 4616066, with a new assembly having the same part number, in accordance with McDonnell Douglas DC-9 Alert Service Bulletin A27-325R02, Revision 2, dated January 27, 1995. Thereafter, conduct visual and eddy current inspections of the replacement rudder pedals adjuster hub assembly in accordance with this paragraph.

(b) For airplanes listed in McDonnell Douglas DC-9 Alert Service Bulletin A27-325R02, Revision 2, dated January 27, 1995, and not subject to paragraph (a) of this AD: Prior to the accumulation of 15,000 landings or within 270 days after March 25, 1996 (the effective date of AD 96-02-05, amendment 39-9493), whichever occurs later, conduct a visual and eddy current inspection to detect cracks of the rudder pedals adjuster hub assembly, part number 4616066, in accordance with McDonnell Douglas DC-9 Alert Service Bulletin A27-325R02, Revision 1, dated February 3, 1992, or Revision 2, dated January 27, 1995.

(1) If no cracks are detected as a result of the inspections required by this paragraph, repeat the inspections at intervals not to exceed 3,500 landings.

(2) If cracks are detected as a result of the inspections required by this paragraph, prior to further flight, replace the rudder pedals adjuster hub assembly, part number 4616066, with a new assembly having the same part number, in accordance with McDonnell Douglas DC-9 Alert Service Bulletin A27-325R02, Revision 2, dated January 27, 1995. Thereafter, conduct visual and eddy current inspections of the replacement rudder pedals adjuster hub assembly in accordance with this paragraph.

New Actions Required By This AD

Replacement and Reidentification

(c) Prior to the accumulation of 15,000 total landings, or within 18 months after the effective date of this AD, whichever occurs later, do the actions specified in paragraphs (c)(1) and (c)(2) of this AD in accordance with the Accomplishment Instructions of McDonnell Douglas Service Bulletin DC9-27-325R02, Revision 02, dated December 12, 1995. Accomplishment of the these actions constitutes terminating action for the requirements of this AD.

(1) Replace the existing magnesium casting hub assembly of the rudder pedal adjuster, part number (P/N) 4616066-3, and bearing, P/N AN201KP4A, in the rudder pedal mechanism between stations X=69.000 and X=120.000 in the flight compartment with a new aluminum assembly, part number (P/N) 5965435-3, and new bearing, P/N MS27641-4; and

(2) Reidentify rudder pedal adjuster, P/N 5641294-501 or -503, as P/N 5641294-507.

Note 2: Installation of the aluminum rudder pedal adjuster hub assembly per McDonnell Douglas Service Bulletin DC9-27-325R02, Revision 1, dated November 30, 1994, before the effective date of this AD, is considered acceptable for the requirements of paragraph (c) of this AD.

Alternative Methods of Compliance

(d) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with McDonnell Douglas DC-9 Alert Service Bulletin A27-325R02, Revision 1, dated February 3, 1992; McDonnell Douglas DC-9 Alert Service Bulletin A27-325R, Revision 2, dated January 27, 1995; or McDonnell Douglas Service Bulletin DC9-27-325R02, Revision 02, dated December 12, 1995; as applicable.

(1) The incorporation by reference of McDonnell Douglas Service Bulletin DC9-27-325R02, Revision 02, dated December 12, 1995, is approved by the Director of the Federal Register in accordance with 5 U.S.C. 552(a) and 1 CFR part 51.

(2) The incorporation by reference of McDonnell Douglas DC-9 Alert Service Bulletin A27-325R02, Revision 2, dated January 27, 1995, was approved previously by the Director of the Federal Register as of March 25, 1996 (61 FR 6922, February 23, 1996).

(3) The incorporation by reference of McDonnell Douglas DC-9 Alert Service Bulletin A27-325R02, Revision 1, dated February 3, 1992, was approved previously by the Director of the Federal Register as of January 22, 1993 (57 FR 60116, December 18, 1992).

(4) Copies may be obtained from Boeing Commercial Aircraft Group, Long Beach Division, 3855 Lakewood Boulevard, Long Beach, California 90846, Attention: Data and Service Management, Dept. C1-L5A (D800-0024). Copies may be inspected at the FAA, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

Effective Date

(g) This amendment becomes effective on January 16, 2002.

Issued in Renton, Washington, on November 28, 2001.
Vi L. Lipski,
Manager, Transport Airplane Directorate, Aircraft Certification Service.

[FR Doc. 01-30203 Filed 12-11-01; 8:45 am]

BILLING CODE 4910-13-P